FEDERAL COMMUNICATIONS COMMISSION

47 CFR Part 73

[DA 04-3174, MB Docket No. 04-386, RM-10817]

Radio Broadcasting Services; Leesville and New Llano, LA

AGENCY: Federal Communications Commission.

ACTION: Proposed rule.

SUMMARY: This document requests comments on a Petition for Rule Making filed by Charles Crawford requesting the allotment of Channel 252C3 at New Llano, Louisiana, as the community's first local aural transmission service. Channel 252C3 can be allotted to New Llano in compliance with the Commission's rules provided there is a site restriction of 10 kilometers (6.2 miles) north of New Llano. The proposed reference coordinates for Channel 252C3 at New Llano are 31-12-18 North Latitude and 93-16-11 West Longitude. To accommodate this allotment, this document also proposes the substitution of Channel 224A for vacant FM Channel 252A at Leesville, Louisiana. Channel 224A can also be allotted to Leesville in compliance with the Commission's rules provided there is a site restriction of 12.6 kilometers (7.8 miles) east of Leesville. The proposed reference coordinates for Channel 224A at Leesville are 31-07-40 North Latitude and 93-08-03 West Longitude. Channel 224A at Leesville is currently listed in the FM Table of Allotments, however, that channel was substituted for Channel 228C3 at Leesville in MM Docket No. 98-191, and the license of Station KJAE(FM) was modified accordingly. See Leesville, Louisiana, 64 FR 31140, published June 10, 1999.

DATES: Comments must be filed on or before November 29, 2004, and reply comments on or before October 8, 2004.

ADDRESSES: Federal Communications Commission, 445 Twelfth Street, SW., Washington, DC 20554. In addition to filing comments with the FCC, interested parties should serve the petitioner, as follows: Charles Crawford, 4553 Bordeaux Avenue, Dallas, Texas 75205.

FOR FURTHER INFORMATION CONTACT: Rolanda F. Smith, Media Bureau, (202) 418-2180.

SUPPLEMENTARY INFORMATION: This is a summary of the Commission's Notice of Proposed Rule Making, MB Docket No. 04-386, adopted October 6, 2004, and released October 8, 2004. The full text of this Commission decision is available for inspection and copying during normal business hours in the Commission's Reference Center, 445 Twelfth Street, SW., Washington, DC 20554. The full text of this Commission decision is available for inspection and copying during normal business hours in the Commission's Reference Center, 445 Twelfth Street, SW., Washington, DC 20554. The complete text of this decision may also be purchased from the Commission's duplicating contractor, Best Copy and Printing, Inc., 445 Twelfth Street, SW., Room CY-B402, Washington, DC 20054, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Louisiana, is amended by removing Channel 252A at Leesville and by adding New Llano, Channel 252C3.

Federal Communications Commission.
John A. Karousos,
Assistant Chief, Audio Division, Media Bureau.

[FR Doc. 04-23458 Filed 10-19-04; 8:45 am]

BILLING CODE 6712-01-P